DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them. Additionally, OFAC is updating the identifying information of one person currently included on the SDN List.

DATES: This action was issued on May 21, 2025. See Supplementary Information for relevant dates.

FOR FURTHER INFORMATION CONTACT: OFAC: Associate Director for Global Targeting, 202-622-2420; or Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

On May 21, 2025, OFAC determined that the persons identified below meet one or more of the criteria for the imposition of sanctions set forth in section 1(a)-(c) of Executive Order 14059 of December 15, 2021, “Imposing Sanctions on Foreign Persons Involved in the Global Illicit Drug Trade,” 86 FR 71549 (December 17, 2021) (E.O. 14059). OFAC has selected to impose blocking sanctions pursuant to section 2(a)(i) of E.O. 14059 on the persons identified below.

OFAC further determined that the persons identified below meet one or more of the criteria for designation pursuant to Executive Order 13224 of September 23, 2001, “Blocking Property and Prohibiting Transactions With Persons Who Commit, Threaten to Commit, or Support Terrorism,” 66 FR 49079, as amended by Executive Order 13886 of September 9, 2019, “Modernizing Sanctions To Combat Terrorism,” 84 FR 48041 (E.O. 13224, as amended).

As a result, the property and interests in property subject to U.S. jurisdiction of the following persons are blocked under the relevant sanctions authorities listed below.

Individuals

1. DE ANDA LEDEZMA, Miguel Angel (a.k.a. “Miguelon”), Nuevo Laredo, Tamaulipas, Mexico; DOB 16 Sep 1984; POB Nuevo Laredo, Tamaulipas, Mexico; nationality Mexico; Gender Male; Secondary sanctions risk: section 1(b) of Executive Order 13224, as amended by Executive Order 13886; C.U.R.P. AALM840916HTSNDG02 (Mexico) (individual) [SDGT] [ILLICIT-DRUGS-EO14059] (Linked To: CARTEL DEL NORESTE).

Designated pursuant to section 1(b)(iii) of E.O. 14059 for being owned, controlled, or directed by, or having acted or purported to act for or on behalf of, directly or indirectly, CARTEL DEL NORESTE, a person sanctioned pursuant to E.O. 14059.

Designated pursuant to section 1(a)(iii)(A) of E.O. 13224, as amended, for being owned, controlled, or directed by, or having acted or purported to act for or on behalf of, directly or indirectly, CARTEL DEL NORESTE, a person whose property and interests in property are blocked pursuant to E.O. 13224, as amended.

2. GONZALEZ SAUCEDA, Ricardo (a.k.a. “El Ricky”; a.k.a. “Mando R”; a.k.a. “Mando Ricky”), Nuevo Laredo, Tamaulipas, Mexico; DOB 21 Jan 1998; POB Nuevo Laredo, Tamaulipas, Mexico; nationality Mexico; Gender Male; Secondary sanctions risk: section 1(b) of Executive Order 13224, as amended by Executive Order 13886; C.U.R.P. GOSR980121HTSNCC04 (Mexico) (individual) [SDGT] [ILLICIT-DRUGS-EO14059] (Linked To: CARTEL DEL NORESTE).

Designated pursuant to section 1(b)(iii) of E.O. 14059 for being owned, controlled, or directed by, or having acted or purported to act for or on behalf of, directly or indirectly, CARTEL DEL NORESTE, a person sanctioned pursuant to E.O. 14059.

Designated pursuant to section 1(a)(iii)(A) of E.O. 13224, as amended, for being owned, controlled, or directed by, or having acted or purported to act for or on behalf of, directly or indirectly, CARTEL DEL NORESTE, a person whose property and interests in property are blocked pursuant to E.O. 13224, as amended.

On May 21, 2025, OFAC updated the entry on the SDN List for the following person, whose property and interests in property subject to U.S. jurisdiction continue to be blocked under the relevant sanctions authorities listed below.

Entity

3. LOS ZETAS (a.k.a. CARTEL DEL NORESTE; a.k.a. “CDN”; a.k.a. “NORTHEAST CARTEL”), Mexico; Secondary sanctions risk: section 1(b) of Executive Order 13224, as amended by Executive Order 13886; Organization Type: Transnational Terrorist Group; Target Type Criminal Organization [SDNTK] [FTO] [SDGT] [TCO] [ILLICIT-DRUGS-EO14059].

The listing for the individual now appears as follows:

CARTEL DEL NORESTE (a.k.a. “CDN”; a.k.a. “LOS ZETAS”; a.k.a. “NORTHEAST CARTEL”), Mexico; Secondary sanctions risk: section 1(b) of Executive Order 13224, as amended by Executive Order 13886; Organization Type: Transnational Terrorist Group ; Target Type Criminal Organization [SDNTK] [FTO] [SDGT] [TCO] [ILLICIT-DRUGS-EO14059].

Dated: May 21, 2025.
Lisa M. Palluconi,
Acting Director, Office of Foreign Assets Control.

[FR Doc. 2025-09492 Filed 5-27-25; 8:45 am]

BILLING CODE 4810-AL-P